FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 001575F.

Name: AEC International, Inc.

Address: 11931 Seventh Street, Houston, TX 77072.

Date Revoked: March 28, 2008.

Reason: Failed to maintain a valid bond.

License Number: 012572NF.

Name: AFT International Freight Systems, Inc.

Address: 20 West Lincoln Ave., Ste. 206, Valley Stream, NY 11580.

Date Revoked: March 24, 2008.

Reason: Surrendered license voluntarily.

License Number: 004299F.

Name: CNC Shipping International, Inc.

Address: 7774 NW. 71st Street, Miami, FL 33166.

Date Revoked: March 9, 2008.

Reason: Failed to maintain a valid bond.

License Number: 015795N.

Name: Eurocargo Express, LLC, dba Eurocargo.

Address: 5250 West Century Blvd., Ste. 620, Los Angeles, CA 90045.

Date Revoked: March 28, 2008.

Reason: Failed to maintain a valid bond.

License Number: 013396N.

Name: Global Forwarding Ltd.

Address: Symal House, 423 Edgware Rd., London NW9 OHU, United Kingdom.

Date Revoked: March 23, 2008.

Reason: Failed to maintain a valid bond.

License Number: 020155N.

Name: Jamteck International Shipping, Inc.

Address: 4633 Richardson Ave., Bronx, NY 10470.

Date Revoked: March 6, 2008.

Reason: Failed to maintain a valid bond.

License Number: 003699F.

Name: Lee's Material Services, Inc.

Address: 5810 Star Lane, Houston, TX 77057.

Date Revoked: March 20, 2008.

Reason: Surrendered license voluntarily.

License Number: 004076F.

Name: Marimar Forwarding, Inc.

Address: 806 NW. 131st Ave., Miami, FL 33182.

Date Revoked: March 14, 2008.

Reason: Failed to maintain a valid bond.

License Number: 003950N.

Name: Ocean-5 Express Line, Inc.

Address: 10545 Bianca Ave., Granada Hills, CA 91344.

Date Revoked: March 21, 2008.

Reason: Failed to maintain a valid bond.

License Number: 019330NF.

Name: Riverside Logistics, Inc.

Address: 8014 Midlothian Turnpike, Ste. 319, Richmond, VA 23235.

Date Revoked: March 28, 2008.

Reason: Surrendered license voluntarily.

License Number: 011170F.

Name: Sage Freight System, Inc., dba Sage Container Lines.

Address: 182-30 150th Rd., #108, Jamaica, NY 11413.

Date Revoked: March 5, 2008.

Reason: Failed to maintain a valid bond.

License Number: 001483NF.

Name: Tokyo Express Co., Inc.

Address: 26 O'Farrell Street, Ste. 900, San Francisco, CA 94108.

Date Revoked: March 5, 2008.

Reason: Surrendered license voluntarily.

License Number: 001066F.

Name: Transglobal Trade Resources, Inc.

Address: 6001 Chatham Center, Orlean Bldg., Ste. 350, Savannah, GA 31406.

Date Revoked: March 28, 2008.

Reason: Failed to maintain a valid bond.

Sandra L. Kusumoto,
Director, Bureau of Certification and Licensing.

[FR Doc. E8-8170 Filed 4-15-08; 8:45 am]

BILLING CODE 6730-01-P